DEPARTMENT OF COMMERCE

National Oceanic and Atmospheric Administration

[RTID 0648-XC631]

Gulf of Mexico Fishery Management Council; Public Meeting; Correction

AGENCY: National Marine Fisheries Service (NMFS), National Oceanic and Atmospheric Administration (NOAA), Commerce.

ACTION: Notice of an addendum to a public meeting.

SUMMARY: The Gulf of Mexico Fishery Management Council (Council) will hold a four-day meeting to consider actions affecting the Gulf of Mexico fisheries in the exclusive economic zone (EEZ). The meeting is a hybrid that is open to the public offering both in-person and virtual options for participation.

DATES: The meeting will convene Monday, January 30 through Wednesday, February 1 at 8 a.m.-5 p.m. and Thursday, February 2, 2023, at 8 a.m.-4:30 p.m., CST.

ADDRESSES: The meeting will take place at the Hilton Baton Rouge Capitol Center hotel, located at 201 Lafayette Street, Baton Rouge, LA 70801. Please note, in-person meeting attendees will be expected to follow any current safety protocols as determined by the Council, hotel and the City of Baton Rouge, if any. Such precautions may include masks, room capacity restrictions, and/or social distancing. If you prefer to “listen in”, you may access the log-on information by visiting our website at www.gulfcouncil.org.

Council address: Gulf of Mexico Fishery Management Council, 4107 W Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION: The original meeting notice published in the Federal Register on January 10, 2023 (88 FR 1366). This notice adds an additional agenda item to the Tuesday, January 31, 2023 agenda. All other previously published information remains unchanged.

The agenda for January 31st should now read as follows:

Tuesday, January 31, 2023; 8 a.m.-5 p.m., CST

The Reef Fish Committee will reconvene to review and discuss the Individual Fishing Quota (IFQ) Focus Group Outcomes, Program Priorities List and Draft Amendment 56: Modifications to the Gag Grouper Catch Limits, Sector Allocations, and Fishing Seasons. The Committee will have a 30-minute break for a working lunch. Following the break, the Committee will review Draft Options: Modifications to Recreational and Commercial Greater Amberjack Management Measures. The Committee will review the Revised Recreational Red Snapper Calibration Ratios, and the January 2023 Gulf SSC Summary Report including catch level recommendations for SEDAR 75 Gray Snapper Stock Assessment and 2023 Red Grouper Interim Analysis.

Authority: 16 U.S.C. 1801 et seq.

Dated: January 12, 2023.
Rey Israel Marquez,
Acting Deputy Director, Office of Sustainable Fisheries, National Marine Fisheries Service.

[FR Doc. 2023-00898 Filed 1-18-23; 8:45 am]

BILLING CODE 3510-22-P